DEPARTMENT OF THE INTERIOR

Bureau of Land Management

[LLNMF01000.L71220000.EU0000.LVTFG18G460.18X; NMNM 134619]

Notice of Realty Action: Direct Sale of Public Land in San Juan County, New Mexico

AGENCY: Bureau of Land Management, Interior.

ACTION: Notice of realty action.

SUMMARY: The Bureau of Land Management (BLM) is proposing a noncompetitive (direct) sale of 19.5 acres of public land in San Juan County, New Mexico, to Linn and Treciafaye Blancett, to resolve an unauthorized use of public lands. The Carl Levin and Howard P. “Buck” McKeon National Defense Authorization Act for Fiscal Year 2015 allows for the direct sale of approximately 19.5 acres of Federal surface estate to resolve this trespass. The sale will be subject to the applicable provisions of the Federal Land Policy and Management Act of 1976 (FLPMA) and the BLM land sale regulations.

DATES: Interested parties may submit written comments regarding this direct sale by June 14, 2021. Only written comments to the BLM Farmington Field Office, will be considered properly filed. Any adverse comments regarding the non-competitive direct sale will be reviewed by the BLM New Mexico State Director or other authorized official of the Department of the Interior, who may sustain, vacate, or modify this realty action in whole or in part.

ADDRESSES: Send written comments to the BLM Farmington Field Office, Attn: Monica Tilden, 6251 College Blvd., Suite A, Farmington, New Mexico 87402.

FOR FURTHER INFORMATION CONTACT: BLM Realty Specialist, Monica Tilden at (505) 564-7744 or mtilden@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM proposes to conduct a direct sale, in accordance with Section 203 of FLPMA (43 U.S.C. 1713), of the following public lands located in San Juan County, New Mexico. The parcel of public land is legally described as:

New Mexico Principal Meridian, New Mexico

T. 32 N., R. 10 W.,

Sec. 22, Lots 10 and 12.

The area described contains 19.5 acres, in San Juan County, New Mexico. Upon publication of the Notice, these public lands will be segregated from all forms of appropriation under the public land laws, including the mining laws, except for the sale provisions of FLPMA. Upon publication of this Notice, and until completion of the sale, the BLM will no longer accept land use applications affecting these public lands. The segregated effect will terminate upon issuance of a patent, publication in the Federal Register of a termination of the segregation, or on April 28, 2023, unless extended by the BLM New Mexico State Director in accordance with 43 CFR 2711.1-2(d) prior to the termination date.

A parcel-specific Environmental Assessment (EA), document number DOI-BLM-NM-F010-2020-0003-EA, was prepared in connection with this realty action. The land is suitable for direct sale without competition, consistent with 43 CFR 2711.3-3(a)(5), because there is a need to resolve an inadvertent unauthorized use of public lands, which are encumbered by privately owned improvements. In addition to publication in the Federal Register, the BLM will also publish this Notice in the Post Independent newspaper, once a week, for three consecutive weeks.

The public land will not be offered for sale prior to 60 days from the date of publication of this notice in the Federal Register. The conveyance document will include the following terms, conditions, and reservations:

1. A reservation for any right-of-way thereon for ditches or canals constructed by the authority of the United States, Act of August 30, 1890 (43 U.S.C. 945).

2. The parcel is subject to all valid existing rights.

3. An appropriate indemnification clause protecting the United States from claims arising out of the patentee's use, occupancy, or occupations on the patented lands.

4. A mineral reservation to the United States for all minerals.

5. Additional terms and conditions that the authorized officer deems appropriate.

The BLM prepared a mineral potential report dated August 20, 2020, which concluded that all mineral rights would not be transferred.

The purchaser will have 30 days from the date of receiving the sale offer to accept the offer and to submit a deposit of 20 percent of the purchase price. The purchaser must remit the remainder of the purchase price within 180 days from the date of the sale offer. Payments must be by certified check, U.S. postal money order, bank draft, or cashier's check, and made payable to the U.S. Department of the Interior-BLM. The purchaser may also conduct an Electronic Funds Transfer (EFT). The balance is due 2 weeks prior to the 180th day if the purchaser conducts an EFT. Failure to meet conditions established for this sale will void the sale and forfeit any payment(s) received. Before including your address, phone number, email address, or other personal identifying information in your comment, you should be aware that your entire comment, including your personal identifying information, may be made publicly available at any time. While you can ask us in your comment to withhold your personal identifying information from public review, we cannot guarantee that we will be able to do so.

Authority: 43 CFR 2711.1-2(a) and (c).

Steven R. Wells,
Acting State Director, New Mexico.

[FR Doc. 2021-08810 Filed 4-27-21; 8:45 am]

BILLING CODE 4310-FB-P